OFFICE OF PERSONNEL MANAGEMENT

[RI 76-10, 3206-XXXX]

Submission for Review: Assignment, Federal Employees' Group Life Insurance Program

AGENCY: U.S. Office of Personnel Management.

ACTION: 60-Day Notice and request for comments.

SUMMARY: The Retirement Services, Office of Personnel Management (OPM) offers the general public and other Federal agencies the opportunity to comment on an existing collection in use without an OMB control number, Assignment, Federal Employees' Group Life Insurance (FEGLI) Program, RI 76-10. As required by the Paperwork Reduction Act of 1995, (Pub. L. 104-13, 44 U.S.C. chapter 35) as amended by the Clinger-Cohen Act (Pub. L. 104-106), OPM is soliciting comments for this collection.

DATES: Comments are encouraged and will be accepted until October 6, 2014. This process is conducted in accordance with 5 CFR 1320.1.

ADDRESSES: Interested persons are invited to submit written comments on the proposed information collection to the U.S. Office of Personnel Management, Retirement Services, Union Square Room 370, 1900 E. Street NW., Washington, DC 20415-3500, Attention: Alberta Butler, or sent via electronic mail to Alberta.Butler@opm.gov.

FOR FURTHER INFORMATION CONTACT: A copy of this ICR, with applicable supporting documentation, may be obtained by contacting the Retirement Services Publications Team, Office of Personnel Management, 1900 E. Street NW., Washington, DC 20503, Attention: Cyrus S. Benson or sent via electronic mail to Cyrus.Benson@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Federal Employees' Group Life Insurance (FEGLI) Program allows an insured individual to transfer ownership, or “assign” the FEGLI coverage, to a third party. An insured may assign for several reasons; for example, for financial planning purposes, or to comply with a court order, or to sell the coverage to a third-party. Unlike a designation of beneficiary, once an assignment is executed, it is irrevocable.

Analysis

Agency: Retirement Operations, Retirement Services, Office of Personnel Management.

Title: Assignment, Federal Employees' Group Life Insurance (FEGLI) Program.

OMB Number: 3206-XXXX.

Frequency: Annually.

Affected Public: Federal employees, retirees, and assignees.

Number of Respondents: 400.

Estimated Time Per Respondent: 15 minutes.

Total Burden Hours: 100 hours.

U.S. Office of Personnel Management.
Katherine Archuleta,
Director.

[FR Doc. 2014-18491 Filed 8-4-14; 8:45 am]

BILLING CODE 6325-38-P